DEPARTMENT OF COMMERCE

International Trade Administration

[A-570-014]

53-Foot Domestic Dry Containers From the People's Republic of China: Amended Preliminary Determination of Sales at Less-Than-Fair-Value

AGENCY: Enforcement and Compliance, International Trade Administration, Department of Commerce.

SUMMARY: The Department of Commerce (“the Department”) is amending the preliminary determination of the less-than-fair-value investigation of 53-foot domestic dry containers from the People's Republic of China (“PRC”) to correct for certain ministerial errors, as described below, in the “Supplementary Information” section of this notice. The Department corrected these errors and recalculated the weighted-average dumping margins for a mandatory respondent and the PRC-Wide entity, as described below in the “Amended Preliminary Determination” section of this notice.

DATES: Effective Date: December 31, 2014.

FOR FURTHER INFORMATION CONTACT: Brian Davis or John Drury, AD/CVD Operations, Office VI, Enforcement and Compliance, International Trade Administration, U.S. Department of Commerce, 14th Street and Constitution Avenue NW., Washington, DC 20230; telephone: (202) 482-7924 or (202) 482-0195, respectively.

SUPPLEMENTARY INFORMATION:

Background

On July 31, 2014, the Department published its affirmative preliminary determination that 53-foot domestic dry containers (“domestic dry containers”) from the PRC are being, or are likely to be, sold in the United States at less than fair value, as provided by section 733 of the Tariff Act of 1930, as amended (“the Act”).¹ On November 25, 2014, the Department disclosed to interested parties its calculations for the Preliminary Determination. On December 1, 2014, Hui Zhou Pacific Container Co., Ltd., Qingdao Pacific Container Co., Ltd., and Qidong Singamas Energy Equipment Co., Ltd. and their holding company Singamas Container Holdings Limited (collectively, “Singamas”), a mandatory respondent in this investigation, submitted a timely ministerial error allegations with respect to the Preliminary Determination. In addition, on December 1, 2014, Stoughton Trailers LLC (“Petitioner”) submitted timely ministerial error allegations with respect to the Department's calculation of the PRC-Wide entity rate. Therefore, in accordance with 19 CFR 351.224(e), we made changes, as discussed below, to the Preliminary Determination.

¹ See 53-Foot Domestic Dry Containers From the People's Republic of China: Preliminary Determination of Sales at Less Than Fair Value; Preliminary Negative Determination of Critical Circumstances; and Postponement of Final Determination and Extension of Provisional Measures, 79 FR 70501 (November 26, 2014) (“Preliminary Determination”).

Period of Investigation

The period of investigation (“POI”) is October 1, 2013, through March 31, 2014.

Scope of the Investigation

The merchandise subject to investigation is closed (i.e., not open top) van containers exceeding 14.63 meters (48 feet) but generally measuring 16.154 meters (53 feet) in exterior length, which are designed for the intermodal transport ² of goods other than bulk liquids within North America primarily by rail or by road vehicle, or by a combination of rail and road vehicle (domestic containers). The merchandise is known in the industry by varying terms including “53-foot containers,” “53-foot dry containers,” “53-foot domestic dry containers,” “domestic dry containers” and “domestic containers.” Imports of the subject merchandise are provided for under subheading 8609.00.0000 of the Harmonized Tariff Schedule of the United States (HTSUS). Imports of the subject merchandise which meet the definition of and requirements for “instruments of international traffic” pursuant to 19 U.S.C. 1322 and 19 CFR 10.41a may be classified under subheading 9803.00.50, HTSUS.

² “Intermodal transport” refers to a movement of freight using more than one mode of transportation, most commonly on a container chassis for on-the-road transportation and on a rail car for rail transportation.

While HTSUS subheadings are provided for convenience and customs purposes, the written description of the subject merchandise is dispositive.

Significant Ministerial Errors

Ministerial errors are defined in 19 CFR 351.224(f) as “errors in addition, subtraction, or other arithmetic function, clerical errors resulting from inaccurate copying, duplication, or the like, and any other type of unintentional error which the Department considers ministerial.” ³ 19 CFR 351.224(e) provides that the Department “will analyze any comments received and, if appropriate, correct any significant ministerial error by amending the preliminary determination . . .” ⁴ A significant ministerial error is defined as a ministerial error, the correction of which, either singly or in combination with other errors, would result in (1) a change of at least five absolute percentage points in, but not less than 25 percent of, the weighted-average dumping margin calculated in the original (erroneous) preliminary determination, or (2) a difference between a weighted-average dumping margin of zero (or de minimis) and a weighted-average dumping margin of greater than de minimis or vice versa.⁵

³ See 19 CFR 351.224(f).

⁴ See 19 CFR 351.224(e).

⁵ See 19 CFR 351.224(g).

In accordance with 19 CFR 351.224(e) and (g)(1), the Department is amending the preliminary determination of the less-than-fair-value investigation of 53-foot domestic dry containers from the PRC to reflect the corrections of significant ministerial errors it made in the weighted-average dumping margin calculations for Singamas, a mandatory respondent in this investigation, and for PRC-Wide entity.⁶

⁶ See, Memorandum from Richard Weible, Office Director, Antidumping and Countervailing Duty Operations, Office VI, to Christian Marsh, Deputy Assistant Secretary for Antidumping and Countervailing Duty Operations, “Less-Than-Fair-Value Investigation of 53-Foot Domestic Dry Containers from the People's Republic of China: Allegations of Ministerial Errors” (“Ministerial Error Memorandum”), which is dated concurrently hereby adopted by this notice.

Ministerial Error Allegations

For a complete analysis of the ministerial error allegations, see the Ministerial Error Memorandum.

Amended Preliminary Determination

As a result of this amended preliminary determination, we revised the preliminary estimated weighted-average dumping margin for Singamas and the PRC-Wide entity as follows:

Exporter | Producer | Weighted-average dumping margin (percent)
Hui Zhou Pacific Container Co., Ltd./Qingdao Pacific Container Co., Ltd./Qidong Singamas Energy Equipment Co., Ltd./Singamas Management Services Limited | Hui Zhou Pacific Container Co., Ltd./Qingdao Pacific Container Co., Ltd./Qidong Singamas Energy Equipment Co., Ltd | 98.82
PRC-Wide Entity |  | 104.59

As detailed in the Memorandum from Christian Marsh, Deputy Assistant Secretary for Antidumping and Countervailing Duty Operations to Paul Piquado, Assistant Secretary for Enforcement and Compliance, “Antidumping Duty Investigation of 53-Foot Domestic Dry Containers from the People's Republic of China: Decision Memorandum for the Preliminary Determination,” dated November 19, 2014, China International Marine Containers (Group) Co., Ltd., China International Marine Containers (HK) Ltd., Xinhui CIMC Special Transportation Equipment Co., Ltd., Nantong CIMC-Special Transportation Equipment Manufacture Co., Ltd., and Qingdao CIMC Container Manufacture Co., Ltd. (collectively, “CIMC”), a mandatory respondent in this investigation, did not demonstrate that it is entitled to a separate rate and, therefore, we found it to be the PRC-Wide Entity.

Amended Collection of Cash Deposits and Suspension of Liquidation

The collection of cash deposits and suspension of liquidation will be revised according to the rates calculated in this amended preliminary determination. Because the amended rate for Singamas results in reduced cash deposits, the rate for Singamas will be effective retroactively to November 26, 2014, the date of publication of the Preliminary Determination. The rate for the PRC-wide entity will be effective upon publication of this notice. Parties will be notified of this determination, in accordance with sections 733(d) and (f) of the Act.

International Trade Commission Notification

In accordance with section 733(f) of the Act, we notified the International Trade Commission of our amended preliminary determination.

Notification to Interested Parties

The Department intends to disclose calculations performed in connection with this amended preliminary determination within five days of the date of publication of this notice in accordance with 19 CFR 351.224(b).

This amended preliminary determination is issued and published in accordance with sections 733(f) and 777(i)(1) of the Act and 19 CFR 351.224(e).

Dated: December 22, 2014.
Paul Piquado,
Assistant Secretary for Enforcement and Compliance.

[FR Doc. 2014-30666 Filed 12-30-14; 8:45 am]

BILLING CODE 3510-DS-P